DEPARTMENT OF COMMERCE

National Oceanic and Atmospheric Administration

RIN 0648-XA112

Western Pacific Fishery Management Council; Public Meetings

AGENCY: National Marine Fisheries Service (NMFS), National Oceanic and Atmospheric Administration (NOAA), Commerce.

ACTION: Notice of public meetings.

SUMMARY: The Western Pacific Fishery Management Council (Council) will hold meetings of its Marianas Archipelago Plan Team (PT), Guam Regional Ecosystem Advisory Committee (Guam REAC), Mariana Archipelago Advisory Panel (AP) and Commonwealth of the Northern Mariana Islands Regional Ecosystem Advisory Committee (CNMI REAC).

DATES: The PT meeting will be held on January 19-20, 2011, Guam REAC on January 21, 2011, AP on January 22, 2011 and CNMI REAC on January 24, 2011. For specific times and agendas, see SUPPLEMENTARY INFORMATION.

ADDRESSES: The PT, Guam REAC and AP meetings will be held at the Guam Hilton and Resort, 202 Hilton Road, Tumon Bay, Guam. The CNMI REAC will be held at the Saipan World Resort, P.O. Box 500066, Saipan, MP.

FOR FURTHER INFORMATION CONTACT: Kitty M. Simonds, Executive Director; telephone: (808) 522-8220.

SUPPLEMENTARY INFORMATION: Public comment periods will be provided. The order in which agenda items are addressed may change. The meetings will run as late as necessary to complete scheduled business.

Schedule and Agenda for PT meeting:

9 a.m.-4 p.m. Wednesday and Thursday, January 19-20, 2011

The Marianas PT will meet to hear reports on, discuss and consider developing recommendations on the following items:

A. Status of Fishery Monitoring Programs and Research Projects

B. Update on Marianas Recommendations from the 2009 Fishery Data Workshop

C. Marianas Archipelago Fishery Ecosystem Plan draft annual report.

D. Proposals for improving fishery data collection for stock assessments

E. Council meeting actions

1. CNMI bottomfish regulatory changes to allow spear fishing of bottomfish management unit species

2. Federal annual catch limit scoping

F. Other business

Schedule and Agenda for Guam REAC meeting:

9 a.m.-5 p.m. Friday, January 21, 2011

The Guam REAC will meet to hear reports on, discuss and consider developing recommendations on the following items:

A. Report on previous REAC recommendations and actions

B. Coastal Marine Spatial Planning

C. Overview of traditional access and spatial planning

D. Panel presentations and discussion on traditional access and history of change

E. Guest presentation on Shoreline access restrictions in relation to fishermen deaths

F. Panel presentations and discussion on Maintaining access to marine resources

G. Local initiatives and actions

1. Military efforts to mitigate marine spatial closure impacts on the fishing community

2. Guam Fisheries Act

3. Indigenous Fishing Rights

4. Guam MCP

H. Other business

Schedule and Agenda for Marianas AP meeting:

9 a.m.-5 p.m. Saturday, January 22, 2011

The Marianas AP will meet to hear reports on, discuss and consider developing recommendations on the following items:

A. Coastal Marine Spatial Planning

1. Shoreline access restrictions in relation to fishermen deaths

2. Military build-up impacts to Marianas fishing community

3. Review of Kahoolawe Transition

4. Report on REAC outcomes

B. Ecosystem monitoring and community issues

1. Mariana programs and projects

2. Federal programs and projects

C. Local legislative activities

D. Upcoming meetings and conferences

1. Marianas archipelago lunar calendar workshop

2. Offshore aquaculture workshop

3. Mariana islands green sea turtle workshop

E. Fisheries Development

1. Guam Marine Conservation Plan

2. CNMI Marine Conservation Plan

F. Other business

Schedule and Agenda for CNMI REAC meeting:

9 a.m.-5 p.m. Monday, January 24, 2011

The CNMI REAC will meet to hear reports on, discuss and consider developing recommendations on the following items:

A. Status of 2010 REAC Recommendations

B. Coastal Marine Spatial Planning Initiative

1. Regional Ocean Partnership

2. Monument Activities and Status

3. Military build-up impacts to Marianas fishing community

C. Ecosystem monitoring and community issues

1. CNMI bio-sampling program

2. Impact of land-based pollution in fish from Saipan Lagoon

3. Saipan Lagoon net fishing data analysis

4. Annual catch limit scoping

D. Community Development

1. Status of Mariana longline fishery

2. CNMI Marine Conservation Plan

E. Upcoming meeting/conferences/workshops

1. Mariana Archipelago Lunar Calendar Workshop

2. Offshore Aquaculture Workshop

3. Mariana Islands Green Sea Turtle Workshop

F. Other business

Although non-emergency issues not contained in this agenda may come before these groups for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: December 22, 2010.
Tracey L. Thompson,
Acting Director, Office of Sustainable Fisheries, National Marine Fisheries Service.

[FR Doc. 2010-32595 Filed 12-27-10; 8:45 am]

BILLING CODE 3510-22-P